DEPARTMENT OF DEFENSE

Department of the Navy

[Docket ID: USN-2022-HQ-0018]

Submission for OMB Review; Comment Request

AGENCY: Department of the Navy, Department of Defense (DoD).

ACTION: 30-day information collection notice.

SUMMARY: The DoD has submitted to the Office of Management and Budget (OMB) for clearance the following proposal for collection of information under the provisions of the Paperwork Reduction Act.

DATES: Consideration will be given to all comments received by September 15, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Community Environmental Concerns Survey for U.S. Navy Clean-Up Actions; OMB Control Number: 0703-EGEN.

Type of Request: Existing collection in use without an OMB Control Number.

Number of Respondents: 178.

Responses per Respondent: 1.

Annual Responses: 178.

Average Burden per Response: 20 minutes.

Annual Burden Hours: 59.

Needs and Uses: The Department of the Navy (DON) recognizes all Americans have the right to be involved in government decisions that may affect their lives. Because of this, the Navy develops site-specific Community Involvement Plans (CIPs) for installations undergoing environmental restoration activities. This ensures nearby community members have opportunities to learn about and participate in this important clean-up process. The development and execution of a CIP promotes community involvement and provides information on how community members can stay informed and share information or concerns. This is an important component to the overall success of the Navy's Environmental Restoration Program (ERP).

Per Environmental Readiness Program Manual (OPNAV M-5090.1) and Environmental Compliance and Protection Manual (MCO P5090.2A), DON requires a formal CIP at all DON ERP sites, whether or not they are National Priorities List (NPL) sites. The CIP is based on information gathered from the community through qualitative surveys or interviews with local officials, residents, public interest groups, and other interested or affected parties to ascertain community concerns, community information needs, and how or when citizens would like to be involved in the Comprehensive Environmental Response, Compensation, and Liability Act (CERCLA) process. To strengthen and maintain community involvement as a useful tool for these purposes, DoD has directed installations to combine pertinent data gathered from surveys or interviews and the U.S. Bureau of the Census and various databases maintained by the military departments, defense agencies, local and tribal agencies, and other agencies to ensure that the CIP adequately characterizes the affected community and addresses community needs.

To ascertain community concerns, community information needs, and how or when citizens would like to be involved in the CERCLA process, the Navy typically provides a qualitative survey several months before the development of a CIP. The survey includes multiple choice questions on areas of concern, as well as a section for open comments. The survey is typically open for one to three months. Survey respondents include local officials, residents, public interest groups, and other interested or affected parties within a specific mile range of the given ERP site. Community members are responding to the information collection to provide input for the required updated CIP. The survey is also used to solicit new RAB members and inform the Navy on community awareness and understanding of the ERP process.

Affected Public: Individuals or households; Businesses or other for-profit; Not-for-profit Institutions; State, Local, or Tribal Government.

Frequency: On occasion.

Respondent's Obligation: Voluntary.

OMB Desk Officer: Ms. Jasmeet Seehra.

You may also submit comments and recommendations, identified by Docket ID number and title, by the following method:

• Federal eRulemaking Portal: https://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil. Dated: August 10, 2023.

Aaron T. Siegel,
Alternate OSD Federal Register Liaison Officer, Department of Defense.

[FR Doc. 2023-17536 Filed 8-15-23; 8:45 am]

BILLING CODE 5001-06-P